DEPARTMENT OF COMMERCE

Foreign-Trade Zones Board

[B-77-2016]

Foreign-Trade Zone 21—Charleston, South Carolina; Application for Subzone; Volvo Car US Operations, Inc.; Ridgeville, South Carolina

An application has been submitted to the Foreign-Trade Zones Board (the Board) by the South Carolina State Ports Authority, grantee of FTZ 21, requesting subzone status for the facility of Volvo Car US Operations, Inc., located in Ridgeville, South Carolina. The application was submitted pursuant to the provisions of the Foreign-Trade Zones Act, as amended (19 U.S.C. 81a-81u), and the regulations of the Board (15 CFR part 400). It was formally docketed on November 14, 2016.

The proposed subzone (2,504 acres) is located at 1801 Volvo Drive, Ridgeville. A notification of proposed production activity has been submitted and is being processed under 15 CFR 400.37 (Doc. B-64-2016).

In accordance with the Board's regulations, Kathleen Boyce of the FTZ Staff is designated examiner to review the application and make recommendations to the Executive Secretary.

Public comment is invited from interested parties. Submissions shall be addressed to the Board's Executive Secretary at the address below. The closing period for their receipt is January 3, 2017. Rebuttal comments in response to material submitted during the foregoing period may be submitted during the subsequent 15-day period to January 17, 2017.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Kathleen Boyce at Kathleen.Boyce@trade.gov or (202) 482-1346.

Dated: November 15, 2016.
Andrew McGilvray,
Executive Secretary.

[FR Doc. 2016-28110 Filed 11-21-16; 8:45 am]

BILLING CODE 3510-DS-P